DEPARTMENT OF COMMERCE

National Oceanic and Atmospheric Administration

RIN 0648-XC078

Endangered Species; File No. 17183

AGENCY: National Marine Fisheries Service (NMFS), National Oceanic and Atmospheric Administration (NOAA), Commerce.

ACTION: Notice; receipt of application for a permit modification.

SUMMARY: Notice is hereby given that Raymond Carthy, Ph.D., University of Florida, Florida Cooperative Fish and Wildlife Research Unit, 117 Newins-Ziegler Hall, P.O. Box 110450, Gainesville, FL 32611, has requested an modification to scientific research Permit No. 17183-01.

DATES: Written, telefaxed, or email comments must be received on or before August 28, 2015.

ADDRESSES: The modification request and related documents are available for review by selecting “Records Open for Public Comment” from the Features box on the Applications and Permits for Protected Species (APPS) home page, https://apps.nmfs.noaa.gov, and then selecting File No. 17183 Mod 2 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Brendan Hurley, (301) 427-8401.

SUPPLEMENTARY INFORMATION: The subject modification to Permit No. 17183, issued on May 6, 2013 (78 FR 26323) is requested under the authority of the Endangered Species Act of 1973, as amended (16 U.S.C. 1531 et seq.) and the regulations governing the taking, importing, and exporting of endangered and threatened species (50 CFR 222-226).

Permit No. 17183-01 authorizes the permit holder to continue long-term research on the demographics and movements of green (Chelonia mydas), loggerhead (Caretta caretta), hawksbill (Eretmochelys imbricata), and Kemp's ridley (Lepidochelys kempii) sea turtles off the northwest coast of Florida. Researchers are authorized to capture sea turtles annually by strike net, tangle net, dip net or hand capture. Captured sea turtles may be measured; weighed; passive integrated transponder and flipper tagged; epibiota sampled; tissue and blood sampled; gastric lavaged; carapace sampled and marked; cloacal swabbed; photographed; and released. A subset of sea turtles may be fitted with telemetry tags—either a satellite tag or an acoustic tag with an accelerometer. The permit is valid through April 17, 2018. The permit holder requests the permit be amended to: (1) Increase the number of Kemp's ridley sea turtles captured from 50 to 200 turtles annually; and (2) allow a larger subset of green and Kemp's ridley sea turtles to receive transmitter attachments to address objectives of habitat use and movements.

Dated: July 23, 2015.
Julia Harrison,
Chief, Permits and Conservation Division, Office of Protected Resources, National Marine Fisheries Service.

[FR Doc. 2015-18550 Filed 7-28-15; 8:45 am]

BILLING CODE 3510-22-P